DEPARTMENT OF COMMERCE

National Oceanic and Atmospheric Administration

[I.D. 021706D]

Mid-Atlantic Fishery Management Council; Public Meetings

AGENCY: National Marine Fisheries Service (NMFS), National Oceanic and Atmospheric Administration (NOAA), Commerce.

ACTION: Notice of a public meeting.

SUMMARY: The Mid-Atlantic Fishery Management Council (Council), its Ecosystems Committee, Surfclam/Ocean Quahog/Tilefish Committee, its Squid, Mackerel, Butterfish Committee, and its Executive Committee will hold public meetings.

DATES: The meeting will be held on Tuesday, March 14, 2006 through Thursday, March 16, 2006. See SUPPLEMENTARY INFORMATION for meeting agenda.

ADDRESSES: The meeting will be held at Congress Hall Hotel, 251 Beach Avenue, Cape May, NJ; telephone: (608) 884-8421

Council address: Mid-Atlantic Fishery Management Council, 300 S. New Street, Dover, DE 19904, telephone: (302) 674-2331.

FOR FURTHER INFORMATION CONTACT: Daniel T. Furlong, Executive Director, Mid-Atlantic Fishery Management Council; telephone: (302) 674-2331, ext. 19.

SUPPLEMENTARY INFORMATION:

Tuesday, March 14, 2006

The Ecosystems Committee will meet from 10 a.m. - 12 noon. The Committee will review final draft of Mid-Atlantic Fishery Management Council's Ecosystem Report regarding ecosystem based fishery management and address strategy regarding introduction of circle hooks as the hook of choice in recreational sector.

The Surfclam/Ocean Quahog/Tilefish Committee will meet from 1 p.m.-1:30 p.m. The Committee will review 2006 Vessel Monitoring System (VMS) reimbursement program / conditions, and address timing of tilefish specifications adjustments.

The Squid, Mackerel, Butterfish Committee will meet from 1:30 p.m.-4 p.m. This Committee will review status of Amendment 10 and discuss and adopt rebuilding schedules developed by Fishery Management Action Team (FMAT) for the butterfish stock.

The Executive Committee will meet from 4 p.m.-4:30 p.m. The Committee will review status of 2006 and 2007 budgets, and review criteria for Ricks E Savage Award.

Wednesday, March 15, 2006

The Council will convene at 9 a.m. The Council will conduct its regular business session from 9 a.m. to 11:30 a.m., to approve December and January Council meeting minutes, approve actions from January meeting and receive various reports. From 12:30 p.m.-5:30 p.m., the Council will discuss Amendment 9 to Squid, Mackerel, Butterfish Fishery Management Plan (FMP), review and adopt the public hearing document (PHD) for Amendment 9 and associated draft environmental impact statement (DEIS).

Thursday, March 16, 2006

The Council will convene at 8:15 a.m. and travel to the U.S. Coast Guard's Cape May Station for a tour of that facility and receive a presentation on fisheries enforcement from the Commander, U.S. Coast Guard District 5. From 10:30 a.m.-11:30 a.m., a presentation will be given by U.S. Navy officials on Undersea Warfare Training. From 11:30 a.m.-noon, the Council will likely approve and adopt Framework 6 to the Summer Flounder, Scup and Black Sea Bass FMP. Beginning at 1 p.m., the Council will receive Committee reports and address any continuing or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to M. Jan Saunders, (302) 674-2331 ext: 18., at least 5 days prior to the meeting date.

Dated: February 22, 2006
Helen Troupos,
Acting Director, Office of Sustainable Fisheries, National Marine Fisheries Service.

[FR Doc. E6-2779 Filed 2-27-06; 8:45 am]

BILLING CODE 3510-22-S